DEPARTMENT OF TRANSPORTATION

Federal Railroad Administration

Notice of Buy America Waiver Request by Northern New England Passenger Rail Authority To Purchase 3,340 AREMA Specified Carbon Steel Standard 1⅛ Nominal Diameter Nuts

AGENCY: Federal Railroad Administration (FRA), United States Department of Transportation (DOT).

ACTION: Notice of Buy America waiver request and request for comment.

SUMMARY: FRA is issuing this notice to advise the public that the Northern New England Passenger Rail Authority (NNEPRA) is seeking a waiver from FRA's Buy America requirement—49 U.S.C. 24405(a). NNEPRA was awarded $35 million in an America Recovery and Reinvestment Act (“Recovery Act”) grant to extend Amtrak's Downeaster passenger service from its existing route of Boston, Massachusetts to Portland, Maine further north to Brunswick, Maine with a stop in Freeport, Maine. The project requires the purchase and use of 3,340 AREMA specified carbon steel standard 1⅛ nominal diameter nuts. NNEPRA seeks the waiver under 49 U.S.C. 24405(a)(2)(B) in that it asserts that the specific nuts it needs are not produced in the United States in a sufficient and reasonably available amount or are not of a satisfactory quality.

DATES: Written comments on NNEPRA's Buy America waiver request should be provided to the FRA on or before August 12, 2010.

ADDRESSES: Please submit your comments by one of the following means, identifying your submissions by docket number FRA-2010-0122. All electronic submissions must be made to the U.S. Government electronic site at http://www.regulations.gov. Commenters should follow the instructions below for mailed and hand-delivered comments.

(1) Web Site: http://www.regulations.gov. Follow the instructions for submitting comments on the U.S. Government electronic docket site;

(2) Fax: (202) 493-2251;

(3) Mail: U.S. Department of Transportation, 1200 New Jersey Avenue, SE., Docket Operations, M-30, Room W12-140, Washington, DC 20590-0001; or

(4) Hand Delivery: Room W12-140 on the first floor of the West Building, 1200 New Jersey Avenue, SE., Washington, DC 20590, between 9 a.m. and 5 p.m., Monday through Friday, except Federal holidays.

Instructions: All submissions must make reference to the “Federal Railroad Administration” and include docket number FRA-2010-0122. Due to security procedures in effect since October 2001, mail received through the U.S. Postal Service may be subject to delays. Parties making submissions responsive to this notice should consider using an express mail firm to ensure the prompt filing of any submissions not filed electronically or by hand. Note that all submissions received, including any personal information therein, will be posted without change or alteration to http://www.regulations.gov. For more information, you may review DOT's complete Privacy Act Statement in the Federal Register published on April 11, 2000 (65 FR 19477), or visit http://www.regulations.gov.

FOR FURTHER INFORMATION CONTACT: For questions about this notice, please contact Ms. Linda Martin, Attorney-Advisor, FRA Office of Chief Counsel, (202) 493-6062 or via e-mail at Linda.Martin@dot.gov.

SUPPLEMENTARY INFORMATION: The Recovery Act requires FRA to apply the Buy America provisions contained in the Passenger Rail Investment and Improvement Act of 2008 (PRIIA), at 49 U.S.C. 24405(a), to grants obligated with Recovery Act funds. 49 U.S.C. 24405(a)(1) authorizes the Secretary of Transportation (“Secretary”) to obligate grant funds only if the steel, iron, and manufactured goods used in the project are produced in the United States. However, 49 U.S.C. 24405(a)(2) also permits the Secretary to waive the Buy America requirements if he finds that: (A) Applying paragraph (1) would be inconsistent with the public interest; (B) the steel, iron, and goods manufactured in the United States are not produced in sufficient and reasonably available amount or are not of a satisfactory quality; (C) rolling stock or power train equipment cannot be bought or delivered to the United States within a reasonable time; or (D) including domestic material will increase the cost of the overall project by more than 25 percent.

If the Secretary determines that it is necessary to waive the Buy American provisions, 49 U.S.C. 24405(a)(4) requires that the Secretary provide public notice of such a finding and provide an opportunity for comment. In addition, PRIIA requires a detailed written justification for the decision be published in the Federal Register. This notice intends to inform the public that NNEPRA has requested a Buy America waiver for 3,340 AREMA Specified Carbon Steel Standard 1⅛ Nominal Diameter Nuts and to request public comment on the potential waiver.

NNEPRA was awarded a $35,000,000 Recovery Act grant to extend Amtrak Downeaster passenger service from its existing route of Boston, Massachusetts to Portland, Maine further north on to Brunswick, Maine with a stop in Freeport, Maine. The Project includes the rehabilitation of existing rail lines owned by Pan Am Railways, construction of two passenger platforms, the rehabilitation of 36 grade crossings, upgrades to signals, the installation of signals on the Brunswick Branch, and other right-of-way improvements.

NNEPRA has requested the waiver pursuant to 49 U.S.C. 24405(a)(2)(B) because it believes that for the reasons set forth in this notice the manufactured goods, 3,340 AREMA Specified Carbon Steel Standard 1⅛ Nominal Diameter Nuts, are not reasonably available in the United States and that therefore a waiver is warranted. The project calls for 3,340 AREMA specified carbon steel standard 1⅛ nominal diameter nuts that measure 1.8125″ across the flats and are 1.125″ thick to be used with 3,340 track bolts and 3,340 spring washers. All but 80 of the nuts and bolts will be removed when the joints are welded at a later date. The cost of the nut is estimated to be $0.75 (Seventy Five Cents) each. In its waiver request, NNEPRA asserts that only $60.00 worth of non-domestic material will remain in the project upon completion though this is largely irrelevant because FRA's Buy America requirement includes construction materials, as well as materials left in any finished projects. The track bolts and spring washers are domestically produced; however, NNEPRA asserts that the nuts are not available from a domestic source. NNEPRA asserts that it verified independently with six of the major track material suppliers and manufacturers that the nut is indeed not available domestically. The companies contacted were: Atlantic Track and Turnout, L.B. Foster, Progress Rail, Unitrac, A&K Railroad and Rockford Products.

With this information in mind and in order to completely understand the facts surrounding NNEPRA's request, FRA seeks comment from all interested parties regarding the availability of domestically manufactured track nuts as described, and the potential Buy America waiver.

Issued in Washington, DC, on July 27, 2010.
Mark E. Yachmetz,
Associate Administrator for Railroad Development, Federal Railroad Administration.

[FR Doc. 2010-18807 Filed 7-30-10; 8:45 am]

BILLING CODE 4910-06-P